NATIONAL CREDIT UNION ADMINISTRATION

Agency Information Collection Activities: Proposed Collection; Comment Request; Payments on Shares by Public Units and Nonmembers

AGENCY: National Credit Union Administration (NCUA).

ACTION: Notice and request for comment.

SUMMARY: NCUA, as part of its continuing effort to reduce paperwork and respondent burden, invites the general public and other Federal agencies to comment on a reinstatement of a previously approved collection, as required by the Paperwork Reduction Act of 1995 (Pub. L. 104-13, 44 U.S.C. Chapter 35).

DATES: Written comments should be received on or before August 5, 2016 to be assured consideration.

ADDRESSES: Interested persons are invited to submit written comments on the information collection to Dawn Wolfgang, National Credit Union Administration, 1775 Duke Street, Alexandria, Virginia 22314-3428; Fax No. 703-519-8579; or Email at PRAComments@NCUA.gov.

FOR FURTHER INFORMATION CONTACT: Requests for additional information should be directed to the address above.

SUPPLEMENTARY INFORMATION:

OMB Number: 3133-0114.

Title: Payments on Shares by Public Units and Nonmembers.

Abstract: Under section 107(6) of the Federal Credit Union Act (Act) and § 701.32 of the NCUA Rules and Regulations, a Federal Credit Union may receive from public units and political subdivisions (as defined in § 754.1) and nonmember credit unions, payments on shares. Limitations on nonmember and public unit deposits in federally insured credit unions is 20 percent of their shares or $3 million, whichever is greater. This collection of information is necessary to protect the National Credit Union Share Insurance Fund (“Fund”). The NCUA Board has determined that deposits in excess of 20 percent of shares or $3 million can cause an undue risk to the Fund and a loss of confidence in the credit union system. The NCUA must be made aware of and be able to monitor those credit unions seeking an exemption from the requirement.

The information collection requirements is for those credit unions seeking an exemption from the nonmember deposit limit must adopt a specific written plan concerning the intended use of those shares and submit along with their lending and investment policies to the NCUA Regional Director. NCUA uses this information to determine whether or not a particular credit union will be granted an exemption to the limit on nonmember and public unit deposits. This collection of information is necessary to protect the National Credit Union Share Insurance Fund.

Type of Review: Extension of a previously approved collection.

Affected Public: Private Sector: Non-for-profit institutions.

Estimated No. of Respondents/Recordkeepers: 20.

Estimated Annual Frequency: 2.1.

Estimated Annual No. of Responses: 42.

Estimated Burden Hours per Response: 1.95.

Estimated Total Annual Burden Hours: 82.

Adjustment are being made to included additional information collections requirements of § 701.32 that were omitted in the previous submission.

Request for Comments: Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on June 1, 2016.

Dated: June 1, 2016.
Dawn D. Wolfgang,
NCUA PRA Clearance Officer.

[FR Doc. 2016-13240 Filed 6-3-16; 8:45 am]

BILLING CODE 7535-01-P